DEPARTMENT OF ENERGY

Notice of Availability: Draft Energy Storage Strategy and Roadmap

AGENCY: Department of Energy (DOE).

ACTION: Notice of availability; request for comments.

SUMMARY: The U.S. Department of Energy (DOE or the Department) seeks public comment to inform development of its Energy Storage Strategy and Roadmap (SRM). DOE is seeking input from the public, especially from interested individuals and entities, such as industry, academia, research laboratories, government agencies, and other stakeholders in the energy storage sector, on its draft Energy Storage SRM. This opportunity is solely for information gathering and planning purposes; it does not constitute a Request for Proposals (RFP). Information received may be used to assist DOE in planning the scope of future technology studies, deployment, or technology commercialization efforts and may be shared with other Federal agencies. DOE may also use information received to expand and facilitate public access to DOE's resources, and to mobilize investment in U.S. energy storage technologies as well as ancillary technologies and efforts that will enable commercialization and widespread adoption. The information collected may be used for internal DOE planning and decision-making to ensure that future activities maximize public benefit while advancing reliable, sustainable, and affordable energy storage solutions.

DATES: Written comments and information are requested on or before February 3, 2025 and must be received no later than 11:59 p.m. eastern time (ET) on that date. Written submissions received after the deadline may not be considered. DOE will not reply individually to responders but will consider all comments submitted by the deadline.

ADDRESSES:

Instructions: Comments must be submitted electronically to esgc@hq.doe.gov, with the subject line “Energy Storage SRM—Comments”. Only electronic responses will be accepted. DOE will not accept hand-delivered submissions.

Requirements for Submissions: To be assured of consideration, submit any written comments by the deadline. All submissions must be in English. Responses must be provided as a Microsoft Word (.doc) or (.docx) attachment to the email with no more than 10 pages in length. Comments submitted should be machine-readable and should not be copy-protected. Comments must include the following responder information: company/institution name (if applicable); company/institution/individual contact name; contact's address, phone number, and email address; and a self-identified respondent category (see SUPPLEMENTARY INFORMATION). This information may be used if there are issues or questions with the comment submission. DOE may not consider submissions that you do not make in accordance with these instructions.

Response Guidance: To facilitate comment submission, DOE is providing a comment template at https://www.energy.gov/oe/draft-energy-storage-strategy-and-roadmap-stakeholder-comment. Use of this template is not required; however, any comments provided must reference the relevant page and line number in the draft Energy Storage SRM. If a comment addresses a table or figure, that cross-reference should be provided. To assist DOE's review of submitted comments, for each comment, please indicate a comment type from the following list: editorial; technical; reference; or other. See the provided template for guidance on each comment type.

FOR FURTHER INFORMATION CONTACT: Requests for additional information may be submitted electronically to Caitlin Callaghan at esgc@hq.doe.gov, or at (202) 586-1411. Please direct media inquiries to DOE Office of Public Affairs, (202) 586-4940 or DOENews@hq.doe.gov.

SUPPLEMENTARY INFORMATION:

Background

In January 2020, DOE launched the Energy Storage Grand Challenge (ESGC) to facilitate a department-wide strategy to accelerate the development, commercialization, and use of next-generation energy storage technologies and sustain American global leadership in energy storage. The ESGC executes DOE's overarching strategy to address energy storage for the benefit of all Americans. In December 2020, DOE released the ESGC Roadmap (https://www.energy.gov/sites/default/files/2020/12/f81/Energy%20Storage%20Grand%20Challenge%20Roadmap.pdf), the Department's first comprehensive energy storage strategy. The ESGC seeks to create and sustain American leadership in energy storage. In addition to concerted research efforts, the ESGC 2020 Roadmap's approach includes accelerating the transition of technologies from the lab to the marketplace, focusing on ways to competitively manufacture technologies at scale in the United States, and ensuring secure supply chains to enable domestic manufacturing.

The ESGC 2020 Roadmap was developed to align DOE's energy storage activities toward a common goal of developing new energy storage technologies to help tackle challenges associated with our evolving electricity grid's ability to accommodate increasingly diverse energy sources to meet consumer needs. The ESGC 2020 Roadmap provided strategic direction to DOE's program activities related to energy storage based on the state of the industry and the research and development (R&D) community at that time. Since 2020, DOE has determined updates to the ESGC 2020 Roadmap are warranted to help improve the effectiveness and efficiency with which the Department executes its energy storage activities.

This draft Energy Storage Strategy and Roadmap (SRM) update conforms to the language set forth in the “Energy Storage System Research, Development, and Deployment Program” as required by the Better Energy Storage Technology (BEST) section of the Energy Policy Act of 2020 (42 U.S.C. 17232(b)(5)). Specifically, this draft Energy Storage SRM updates the ESGC 2020 Roadmap (the original energy storage strategic plan) in consideration of the progress made across the energy storage sector since 2020, as well as to reflect DOE's recent activities in support of its energy storage mission and vision. The draft Energy Storage SRM can be found here: https://www.energy.gov/oe/draft-energy-storage-strategy-and-roadmap-stakeholder-comment.

Request for Written Comments

This Notice of Availability (NOA) is to solicit feedback from interested individuals and entities, such as industry, academia, research laboratories, government agencies, and other stakeholders to assist DOE with identifying opportunities and challenges—both technical and financial—for the development, commercialization, production, and deployment of energy storage technologies. This notice is intended to improve DOE's understanding of public stakeholder views on how the Department could advance its energy storage activities to meet the needs of the American people. This notice is a general solicitation for public comments. This is solely a request for information. In issuing this NOA, DOE is not seeking to obtain or utilize consensus advice and/or recommendations. Comments will be reviewed by DOE staff and, as appropriate, DOE contractors, and may be used to inform DOE's energy storage activities.

Disclaimer and Important Notes

This NOA is not a Notice of Funding Opportunity (NOFO) announcement or RFP for a procurement contract; therefore, DOE is not accepting applications or proposals at this time in response to this NOA. DOE may or may not elect to develop programs in the future and solicit contracts based on or related to the content and responses to this NOA. There is no guarantee that an RFP or NOFO will be issued as a result of this NOA. Responding to this NOA does not provide any advantage or disadvantage to potential applicants if DOE chooses to issue a NOFO or solicit a contract related to the subject matter.

Any information obtained through this NOA is intended to be used by the Government on a non-attribution basis for planning and strategy development. Your responses to this NOA will be treated as information only. DOE will review and consider all responses as it formulates program strategies related to the subjects within this request. DOE will not provide reimbursement for costs incurred in responding to this NOA. Respondents are advised that DOE is under no obligation to acknowledge receipt of the information received or provide feedback to respondents with respect to any information submitted. Responses to this NOA do not bind DOE to any further actions related to this topic.

Respondents are requested to provide the following information at the start of their response to this NOA:

• Company/institution name (if applicable);

• Company/institution/individual contact's name;

• Contact's address, phone number, and email address;

• Respondent Category.

For the Respondent Category, please select the category that best represents the individual or organization from the following list: individual; industry; academia; research laboratory; government agency; other. If other, please also self-identify an appropriate category.

Proprietary Information

Because information received in response to this NOA may be used to structure future programs and/or otherwise be made available to the public, respondents are strongly advised NOT to include any information in their responses that might be considered business sensitive, proprietary, or otherwise confidential. If, however, a respondent chooses to submit business sensitive, proprietary, or otherwise confidential information, it must be clearly and conspicuously marked as such in the response.

Freedom of Information Act

Responses received under this NOA are subject to public disclosure under the Freedom of Information Act. Because information received in response to this NOA may be used to structure future programs, NOFOs, RFPs and/or otherwise be made available to the public, respondents are strongly advised to NOT include any information in their responses that might be considered business sensitive (e.g., commercial or financial information that is privileged or confidential), trade secrets, proprietary, or otherwise confidential.

Consistent with 10 CFR 1004.11, DOE requires that any person submitting information that they believe to be confidential and exempt by law from public disclosure should submit two well-marked copies: one copy of the document marked “confidential” which must clearly and conspicuously identify the business sensitive, trade secrets, proprietary, or otherwise confidential information, and one copy of the document marked “non-confidential” with the information believed to be confidential deleted. Failure to comply with these marking requirements may result in the disclosure of the unmarked information under the Freedom of Information Act or otherwise. The Government is not liable for the disclosure or use of unmarked information and may use or disclose such information for any purpose.

If you choose to provide business sensitive, trade secrets, proprietary, or otherwise confidential information, you must include a cover sheet marked as follows identifying the specific pages containing business sensitive, trade secrets, proprietary, or otherwise confidential information:

Notice of Restriction on Disclosure and Use of Data: Pages [List Applicable Pages] of this response may contain business sensitive, trade secrets, proprietary, or otherwise confidential information that is exempt from public disclosure. Such information shall be used or disclosed only for the purposes described in this NOA. The Government may use or disclose any information that is not appropriately marked or otherwise restricted, regardless of source.

In addition, (1) the header and footer of every page that contains business sensitive, trade secrets, proprietary, or otherwise confidential information must be marked as follows: “Contains Business Sensitive, Trade Secrets, Proprietary, or Otherwise Confidential Information Exempt from Public Disclosure” and (2) every line and paragraph containing such information must be clearly marked with double brackets or highlighting. DOE will make its own determination about the confidential status of the information and treat it according to its determination.

Marketing Information

Any submissions that could be considered advertising or marketing for a specific product will be excluded.

Review by Federal and Non-Federal Personnel

Federal employees are subject to the non-disclosure requirements of a criminal statute, the Trade Secrets Act, 18 U.S.C. 1905. The Government may seek the advice of qualified non-federal personnel. The Government may also use non-federal personnel to conduct routine, non-discretionary administrative activities. The respondents, by submitting their response(s), consent to the DOE providing their response(s) to non-Federal parties. Non-Federal parties given access to responses must be subject to an appropriate obligation of confidentiality prior to being given the access. Submissions may be reviewed by support contractors and private consultants.

Overview of the Draft Energy Storage SRM

The draft Energy Storage SRM represents a significantly expanded strategic revision on the original ESGC 2020 Roadmap. This SRM outlines actions that implement the strategic objectives facilitating safe, beneficial and timely storage deployment; empower decisionmakers by providing data-driven information analysis; and leverage the country's global leadership to advance durable engagement throughout the innovation ecosystem. The underlying motivation for DOE's strategic investment in energy storage is to ensure that the American people will have access to energy storage innovations that enable resilient, flexible, affordable, and secure energy systems and supply, for everyone, everywhere. This updated SRM presents a clarified mission and vision, a strategic approach, and a path forward to achieving specific objectives that empower a self-sustaining energy storage ecosystem that develops, delivers, and deploys breakthrough solutions to meet a range of real-world applications, across multiple time horizons. This SRM does not address new policy actions, nor does it specify budgets and resources for future activities.

The draft Energy Storage SRM is structured as follows:

Introduction providing the context for the present draft of the SRM.

Section 1 of this SRM presents the mission and vision driving DOE's energy storage activities across various DOE programs and offices. The mission identifies the purpose of DOE's coordinated energy storage efforts while the vision describes the desired end-state for this SRM.

Section 2 describes the strategic approach and high-level direction for DOE's energy storage research, development, demonstration, and deployment (RDD&D) activities that establishes the blueprint for DOE's energy storage roadmap (Section 5). The roadmap provides more tactical direction, informed by the mission, vision, and strategic approach.

Section 3 presents an overview of the types of DOE activities that support DOE's Energy Storage SRM. Activities include not only conventional research activities, but also those efforts that are foundational and crosscutting in support of the mission and vision of the SRM as well as stakeholder engagements. Representative activities are identified in the appendix.

Section 4 describes the portfolio of energy storage technologies and highlights opportunities for future DOE investment based on the current landscape of technologies and use cases.

Section 5 describes the path forward to achieve the strategic objectives and vision of this Energy Storage SRM. This section highlights DOE activities to facilitate technology innovation and deployment, to empower decision-makers, and to strengthen collaboration throughout the energy storage ecosystem.

Finally, Section 6 summarizes anticipated outcomes and next steps over the next decade as DOE works to implement this Energy Storage SRM.

The appendices provide additional context for the Energy Storage SRM:

Appendix A identifies DOE offices with relevant energy storage R&D programs.

Appendix B provides a list of acronyms used in this document.

Appendix C provides a list of key terms and definitions used in this document.

Appendix D provides updates to the ESGC 2020 Roadmap action items and targets; it also describes major transitions from the ESGC 2020 Roadmap to the current SRM.

Appendix E identifies representative DOE activities contributing to DOE's energy storage portfolio.

Appendix F reviews the relevant 2015 Grid Modernization Initiative Multi-Year Program Plan (GMI MYPP) energy storage activities and provides updates on recommended tasks. Additionally, relevant elements of the GMI MYPP 2020 Update are also discussed.

Appendix G highlights relevant policy and regulatory drivers impacting the energy storage landscape.

Appendix H highlights representative examples of DOE's international energy storage activities and initiatives.

Appendix I summarizes the recommendations from the Electricity Advisory Committee's 2022 Biennial Energy Storage Review, which focused on the ESGC 2020 Roadmap.

DOE is seeking general feedback on the draft Energy Storage SRM as part of its process to update the ESGC 2020 Roadmap.

Signing Authority

This document of the Department of Energy was signed on December 4, 2024, by Gene Rodrigues, Assistant Secretary for the Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 17, 2024.
Treena V. Garrett,
Federal Register Liaison Officer, U.S. Department of Energy.

[FR Doc. 2024-30390 Filed 12-19-24; 8:45 am]

BILLING CODE 6450-01-P